DEPARTMENT OF LABOR

Veterans' Employment and Training Service

Agency Information Collection Activities; Comment Request; Eligibility Data Form: Uniformed Services Employment and Reemployment Rights Act and Veterans' Preference

ACTION: Notice; request for comments.

SUMMARY: In compliance with the Paperwork Reduction Act of 1995 (PRA), DOL is soliciting public comments regarding the proposed revision of this Office of the Assistant Secretary for Veterans' Employment and Training Service (VETS) sponsored information collection for the authority to revise the information collection request (ICR) titled, “VETS USERRA/VP/VEOA Claim Form,” previously titled “Eligibility Data Form: Uniformed Services Employment and Reemployment Rights Act and Veterans' Preference.” The existing version of the form is currently approved under Office of Management and Budget (OMB) Control Number 1293-0002.

DATES: Consideration will be given to all written comments received by January 30, 2023.

ADDRESSES: A copy of this ICR with applicable supporting documentation, including a description of the likely respondents, proposed frequency of response, and estimated total burden, may be obtained for free by contacting William Coughlin by email at coughlin.william.e@dol.gov.

Electronic submission: You may submit comments and attachments electronically at 1010-FRN-2022-VETS@dol.gov. Include “VETS-1010 Form” in the subject line of the message, identified by OMB Control Number 1293-0002.

Comments are invited on: (1) whether the collection of information is necessary for the proper performance of the functions of the Department, including whether the information will have practical utility; (2) Evaluate whether the proposed collection of information is necessary for the proper performance of the functions of the agency; (3) the accuracy of the agency's estimates of the burden and cost of the collection of information, including the validity of the methodology and assumptions used; (4) ways to enhance the quality, utility and clarity of the information collection; and (5) ways to minimize the burden of the collection of information on those who are to respond, including the use of automated collection techniques or other forms of information technology. Comments submitted in response to this notice will be summarized and included in the request for the Office of Management and Budget approval of the information collection request. Comments will become a matter of public record.

FOR FURTHER INFORMATION CONTACT: William Coughlin, Investigative Analyst, Compliance and Investigations, by telephone at 202-693-4715, or by email at: 1010-FRN-2022-VETS@dol.gov.

SUPPLEMENTARY INFORMATION:

Form Description: The VETS USERRA/VP/VEOA Claim Form, VETS USERRA/VP/VEOA Form 1010 (VETS-1010) is used to file complaints with the DOL VETS under either the Uniformed Services Employment and Reemployment Rights Act (USERRA) or the laws and regulations related to Veterans' Preference (VP) or the Veterans' Employment Opportunities Act (VEOA) in Federal employment. On October 13, 1994, the Uniformed Services Employment and Reemployment Rights Act (USERRA), Public Law 103-353, 108 Stat. 3150 was signed into law. The purpose of USERRA is: (1) to minimize disruption to the lives of persons who perform service in the uniformed services (including the National Guard and Reserves), as well as to their employers, their fellow employees, and their communities, by providing for prompt reemployment of such persons upon completion of such service; (2) to encourage individuals to participate in non-career uniformed service by eliminating and minimizing the disadvantages to civilian careers and employment which can result from such service; and (3) to prohibit discrimination in employment and acts of reprisal against persons because of their obligations in the uniformed services, prior service, intention to join the uniformed services, filing of a USERRA claim, seeking assistance concerning an alleged USERRA violation, testifying in a proceeding, or otherwise assisting in an investigation of a USERRA claim. The Veterans Employment Opportunities Act (VEOA) of 1998, Public Law 105-339, 12 Stat. 3182, contained in Title 5 U.S.C. 3330a-3330c, authorizes the Secretary of Labor to provide assistance to preference eligible individuals who believe their rights under the veterans' preference laws have been violated, and to investigate claims filed by those individuals. The purpose of VP and VEOA is: (1) to provide preference for certain veterans over others in Federal hiring from competitive lists of applicants; (2) to allow access to Federal job opportunities to veterans that might otherwise be closed to the public; and (3) to provide preference eligible veterans with preference over others in retention during reductions in force (RIF) in Federal agencies.

Purpose of Request

DOL is proposing to revise VETS USERRA/VP/VEOA Claim Form, which was previously approved in April 2020 under the title “Eligibility Data Form: Uniformed Services Employment and Reemployment Rights Act and Veterans' Preference.” Proposed revisions to the form include updates which add new or missing collection elements, remove non-pertinent collection elements, improve form accessibility and structure, improve compliance with DOL form requirements, and update form selection options. These changes are being made to comply with DOL requirements, amendments to USERRA, and other statutory, regulatory, or policy requirements described in Figure 1.

Figure 1
Name | Abbreviation | Type
Civilian Reservist Emergency Workforce Act of 2021 | CREW Act | Statutory.
Executive Order 13985—Advancing Racial Equity, and Support for Underserved Communities Through the Federal Government | E.O. 13985 | Executive Order.
Section 508 of the Rehabilitation Act as amended by the Workforce Innovation and Opportunities Act of 2014—29 U.S.C. 794d | Sec. 508 | Statutory.
DLMS 7-1300 DOL Forms Management Program | DLMS 7-1300 | Department Policy.
5 U.S.C. 3501, 3502 | VP-RIF | Statutory.
Plain Writing Act of 2010 | PWA | Statutory.
National Defense Authorization Act | NDAA | Statutory.

Proposed Changes

Form Design and Structure: VETS has updated the design of the form to comply with requirements in DLMS 7-1300. This includes converting the overall layout of the form to a Box Design, with captions in the upper left corner of fields. Fields and elements within the form were also reorganized based on a logical sequence for completion of the form. The sections of the form were also modified to have a templated hierarchy that better organizes the sections by heading, and form field number. This improves the compatibility of the form with screen-readers, and other assistive technology as required by Section 508 requirements. Accessibility was further improved with the addition of more descriptive field text and labels, tag ordering, and form controls.

Removal of Content: Several elements of the prior form were removed from the new form due to logistical changes within VETS, a desire to improve clarity, and a determination that some of the requested information in the form was not necessary at the time of claim filing. The largest removal from the form is of Section II: Uniformed Service Information. VETS determined that the information necessary to review eligibility for coverage under USERRA or Veterans Preference are notably different, therefore, the information was separated into the corresponding claim sections. Questions about the uniformed service unit the claimant is assigned to, and the unit's contact information were removed, due to their non-relevance at this stage of claim processing.

Within the Employer Information Section VETS removed the question asking about cumulative uniformed service. The count of cumulative uniformed service is heavily influenced by a determination that an investigator must make about types of service which are exempted from the cumulative count. It is an unreasonable burden on the claimant to request they assess the authority for every mobilization they performed and calculate the cumulative time while they are filing their claim. Within the Employer Information Section VETS also removed the question asking about Union Representation. The claimant's representation by a Union is not relevant to the intake of their claim, or subsequent assignment to an investigator.

Within the form, the information and ability to file dual claims for USERRA and Veterans Preference simultaneously was also removed. While a claimant may have multiple claims, the eligibility criteria, and information relevant to those claims is distinct, and can possibly conflict. Therefore, a separate form is required for each claim they wish to file.

Finally, VETS also removed contact information by phone from the form. The phone number previously provided was to the generic 1(866) 4-USA-DOL phone line, which did not connect claimants directly to staff within VETS who could immediately assist them, often delaying or preventing the filing of claims.

Modification of Content: The Claim Information Section from the prior version of the form has been separated into five more appropriate sub-sections, detangling separate claim types from one another. These subsections improve clarity for claimants about which information is required based on the type of claim they are filing and reduce the likelihood of accidental over-disclosure at the time of claim filing. For example, all information related to USERRA versus VP/VEOA claims are split in the form, with clear instructions in the form about when the claimant can skip a section.

Many of the fields in each section of the form were modified to include drop-down lists, radio-boxes, and check boxes, when possible, to narrow the field entry options to only values that are relevant to USERRA, or the statutes and regulations covering Veterans Preference or VEOA. This reduces the risk of improper claim filing, and risk of providing more information than is necessary to review and assign their claim to an investigator. Existing fields were also modified to provide additional validation coding for dates, social security numbers, phone numbers, etc. Drop boxes and selection options were also expanded to include additional relevant values based on updated statutes, regulations, and orders. For example, Space Force, and FEMA have been added to the list of uniformed service branches based on the creation of the Space Force through the NDAA and expanded coverage to FEMA service members through the CREW Act.

VETS has also replaced the USERRA Issue section of the claim information section with a series of statements that the claimant must answer “Yes” or “No” to, to help VETS process and investigate their claim. The prior version of the form allowed claimants to select multiple checkboxes from a list of “USERRA Issue Codes” that match with coding in our databases that help categorize the types of claims received. However, many of these “Issue Codes” are not clearly explained to the claimant and create miscommunication early in investigations. The replacement statements will help to more clearly identify the exact issue that the claimant is requesting assistance for, and only if it's covered by USERRA.

Next, VETS updated the language and references contain in all “statements” (Section K through Section O) in the form. These have been reviewed and updated with input provided by the DOL Solicitor's office.

Finally, the instructions pages for the form have been separated into a companion document titled “VETS USERRA/VP/VEOA Claim Form Instructions” or VETS-1010a. This reduces the overall quantity of pages in the claim document, and ultimately reduces the resources required to print, scan, fax, or electronically send or the form.

Addition of Content: VETS modified the form to include additional fields and content we want to collect at the time of initial claim filing. To comply with E.O. 13985, VETS has added “Section H. Claimant Demographic Data” as a section in the form. This section requests the claimant voluntarily identify their disability status, date of birth, ethnicity, race, and gender. This information will be used to provide better training to investigators to better serve underserved populations, through review and analysis of case trends and outcomes that may be related to claimants' demographic profiles.

VETS has also added a VP Reduction in Force (RIF) Claim Information Section. RIF claims are distinct from Federal hiring claims in the information needed to process them. Therefore, this claim type required its own distinct claim section, with information required to process the claim.

VETS also added fields to request an email address for person identified in the document. Missing email addresses at the time of claim processing reduces efficiency of investigators and can create delays in completing an investigation.

Estimated Change in Hour Burden: VETS estimates that the proposed revisions will increase the currently approved public burden from an estimated 30 minutes to 45 minutes. VETS has determined that this increase is related to the inclusion of fields and sections for USERRA Claim Eligibility (for USERRA Cases), Reduction in Force Claim Information (for VP RIF cases), and Claimant Demographic Information (All Cases). However, VETS also estimates a time savings of one to three hours during the investigation phase for those claim types, which resulted from investigators trying to obtain the missing information through investigative tasks. VETS further estimates the inclusion of this new material will reduce the volume of erroneously filed claims for situations that are not covered by USERRA or VP, which decrease the administrative burden on Federal staff and resources.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-VETS.

Type of Review: Revision.

Title of Collection: Eligibility Data Form: Uniformed Services Employment and Reemployment Rights Act and Veterans' Preference.

OMB Control Number: 1293-0002.

Form: VETS/USERRA/VP (VETS-1010 Form).

Affected Public: Individuals or households.

Total Estimated Number of Respondents: 2,250.

Frequency: On occasion.

Total Estimated Number of Responses: 2,250.

Estimated Average Time per Response: 45 minutes, including 10 minutes estimated to collect the information needed to file a USERRA or VP claim, and 35 minutes estimated to complete the form.

Total Estimated Burden Hours: 1,688 hours.

Total Estimated Other Burden Costs (Operating and Maintenance): $0.

(Authority: 44 U.S.C. 3506(c)(2)(A)).

James D. Rodriguez,
Assistant Secretary, Veterans' Employment and Training Service, U.S. Department of Labor.

[FR Doc. 2022-26112 Filed 11-30-22; 8:45 am]

BILLING CODE 4510-79-P